DEPARTMENT OF HEALTH AND HUMAN SERVICES

National Institutes of Health

Center for Scientific Review; Amended Notice of Meeting

Notice is hereby given of a change in the meeting of the Center for Scientific Review Special Emphasis Panel, March 26, 2009, 12 p.m. to March 27, 2009, 3 p.m., National Institutes of Health, 6701 Rockledge Drive, Bethesda, MD 20892 which was published in the Federal Register on March 12, 2009, 74 FR 10748.

The meeting will be held April 16, 2009, 3 p.m. to April 17, 2009, 6 p.m. The meeting location remains the same. The meeting is closed to the public.

Dated: April 2, 2009.
Jennifer Spaeth,
Director, Office of Federal Advisory Committee Policy.

[FR Doc. E9-8018 Filed 4-9-09; 8:45 am]

BILLING CODE 4140-01-M